ENVIRONMENTAL PROTECTION AGENCY

40 CFR Part 98

[EPA-HQ-OAR-2012-0934; FRL-9789-1]

RIN 2060-AR52

2013 Revisions to the Greenhouse Gas Reporting Rule and Proposed Confidentiality Determinations for New or Substantially Revised Data Elements

Correction

In proposed rule document 2013-06093, appearing on pages 19802-19877 in the issue of Tuesday, April 2, 2013, make the following correction:

§ 98.173 Calculating GHG emissions. [Corrected]

On page 19854, the equation titled as “(Eq. Q-5)” is corrected to read as set forth below:

[FR Doc. C1-2013-06093 Filed 4-24-13; 8:45 am]

BILLING CODE 1505-01-D